DEPARTMENT OF ENERGY

Federal Energy Regulatory Commission

Combined Notice of Filings #1

Take notice that the Commission received the following exempt wholesale generator filings:

Docket Numbers: EG25-419-000.

Applicants: Boot Hill Solar LLC.

Description: Boot Hill Solar LLC submits Notice of Self-Certification of Exempt Wholesale Generator Status.

Filed Date: 7/30/25.

Accession Number: 20250730-5056.

Comment Date: 5 p.m. ET 8/20/25.

Take notice that the Commission received the following electric rate filings:

Docket Numbers: ER09-1117-001.

Applicants: NGP Blue Mountain I LLC.

Description: Notice of Non-Material Change in Status of NGP Blue Mountain I LLC.

Filed Date: 7/30/25.

Accession Number: 20250730-5081.

Comment Date: 5 p.m. ET 8/20/25.

Docket Numbers: ER10-2034-009.

Applicants: Duke Energy Indiana, Inc.

Description: Notice of Change in Status of Duke Energy Indiana, LLC.

Filed Date: 7/29/25.

Accession Number: 20250729-5170.

Comment Date: 5 p.m. ET 8/19/25.

Docket Numbers: ER10-3278-005; ER20-2060-004.

Applicants: MPH Rockaway Peakers, LLC, Forked River Power LLC.

Description: Notice of Non-Material Change in Status of Forked River Power LLC, et al.

Filed Date: 7/30/25.

Accession Number: 20250730-5079.

Comment Date: 5 p.m. ET 8/20/25.

Docket Numbers: ER19-2583-002.

Applicants: Green River Wind Farm Phase 1, LLC.

Description: Supplement to 06/30/2023, Triennial Market Power Analysis for Northwest Region of Green River Wind Farm Phase 1, LLC.

Filed Date: 7/25/25.

Accession Number: 20250725-5178.

Comment Date: 5 p.m. ET 8/15/25.

Docket Numbers: ER19-2621-003; ER19-665-003; ER19-666-003; ER19-667-004; ER19-669-004.

Applicants: Northfield Mountain LLC, FirstLight MA Hydro LLC, FirstLight CT Hydro LLC, FirstLight CT Housatonic LLC, FirstLight Power Management LLC.

Description: Notice of Non-Material Change in Status of FirstLight Power Management LLC, et al.

Filed Date: 7/29/25.

Accession Number: 20250729-5172.

Comment Date: 5 p.m. ET 8/19/25.

Docket Numbers: ER24-548-003; ER10-3057-008.

Applicants: Dow Pipeline Company, Dow Hydrocarbons and Resources LLC.

Description: Notice of Non-Material Change in Status of Dow Hydrocarbons and Resources LLC, et al. under ER24-548, et al.

Filed Date: 7/30/25.

Accession Number: 20250730-5073.

Comment Date: 5 p.m. ET 8/20/25.

Docket Numbers: ER24-2103-005.

Applicants: Keydet Solar Center, LLC.

Description: Notice of Change in Status of Keydet Solar Center, LLC.

Filed Date: 7/29/25.

Accession Number: 20250729-5176.

Comment Date: 5 p.m. ET 8/19/25.

Docket Numbers: ER24-2257-004; ER24-2258-004.

Applicants: Lockhart CL ESS II, LLC, Lockhart CL ESS I, LLC.

Description: Notice of Non-Material Change in Status of Lockhart CL ESS I, LLC, et al.

Filed Date: 7/28/25.

Accession Number: 20250728-5182.

Comment Date: 5 p.m. ET 8/18/25.

Docket Numbers: ER24-3057-001.

Applicants: Kearsarge Riverpark I LLC.

Description: Notice of Non-Material Change in Status of Kearsarge Riverpark I LLC.

Filed Date: 7/29/25.

Accession Number: 20250729-5169.

Comment Date: 5 p.m. ET 8/19/25.

Docket Numbers: ER25-160-002.

Applicants: Morris Solar, LLC.

Description: Notice of Change in Status of Morris Solar, LLC.

Filed Date: 7/29/25.

Accession Number: 20250729-5177.

Comment Date: 5 p.m. ET 8/19/25.

Docket Numbers: ER25-451-003.

Applicants: 50LW 8me LLC.

Description: Notice of Change in Status of 50LW 8me LLC.

Filed Date: 7/29/25.

Accession Number: 20250729-5178.

Comment Date: 5 p.m. ET 8/19/25.

Docket Numbers: ER25-799-001.

Applicants: Northumberland Solar, LLC.

Description: Notice of Non-Material Change in Status of Northumberland Solar, LLC.

Filed Date: 7/30/25.

Accession Number: 20250730-5082.

Comment Date: 5 p.m. ET 8/20/25.

Docket Numbers: ER25-1124-001.

Applicants: EdSan 1C Solar, LLC.

Description: Notice of Non-Material Change in Status of EdSan 1C Solar, LLC.

Filed Date: 7/28/25.

Accession Number: 20250728-5178.

Comment Date: 5 p.m. ET 8/18/25.

Docket Numbers: ER25-1479-001.

Applicants: Escape Solar LLC.

Description: Compliance filing: Notice of Change in Status and Revised Market-Based Rate Tariff to be effective 9/26/2025.

Filed Date: 7/30/25.

Accession Number: 20250730-5000.

Comment Date: 5 p.m. ET 8/20/25.

Docket Numbers: ER25-3010-000.

Applicants: PJM Interconnection, L.L.C.

Description: Tariff Amendment: Notice of Cancellation GIA SA No. 7526; Project Identifier No. AG1-163 to be effective 9/28/2025.

Filed Date: 7/29/25.

Accession Number: 20250729-5130.

Comment Date: 5 p.m. ET 8/19/25.

Docket Numbers: ER25-3011-000.

Applicants: NSTAR Electric Company.

Description: 205(d) Rate Filing: Vitol Inc. Transfer of Use Rights Agreement to be effective 10/31/2025.

Filed Date: 7/29/25.

Accession Number: 20250729-5135.

Comment Date: 5 p.m. ET 8/19/25.

Docket Numbers: ER25-3012-000.

Applicants: Pierce County Energy Center, LLC.

Description: 205(d) Rate Filing: Application for Market-Based Rate Authorization—Pierce County Energy Center to be effective 9/28/2025.

Filed Date: 7/29/25.

Accession Number: 20250729-5137.

Comment Date: 5 p.m. ET 8/19/25.

Docket Numbers: ER25-3013-000.

Applicants: SR Millington II, LLC.

Description: Initial Rate Filing: Market-Based Rate Application to be effective 9/28/2025.

Filed Date: 7/29/25.

Accession Number: 20250729-5139.

Comment Date: 5 p.m. ET 8/19/25.

Docket Numbers: ER25-3014-000.

Applicants: Rush Springs Solar, LLC.

Description: 205(d) Rate Filing: Application for Market-Based Rate Authorization—Rush Springs Solar, LLC.

Filed Date: 7/29/25.

Accession Number: 20250729-5140.

Comment Date: 5 p.m. ET 8/19/25.

Docket Numbers: ER25-3015-000.

Applicants: Titan Solar Energy, LLC.

Description: 205(d) Rate Filing: Application for Market-Based Rate Authorization—Titan Solar Energy, LLC.

Filed Date: 7/29/25.

Accession Number: 20250729-5142.

Comment Date: 5 p.m. ET 8/19/25.

Docket Numbers: ER25-3016-000.

Applicants: Bluebird Solar LLC.

Description: Compliance filing: Notice of Change in Status and Revision to Market-Based Rate Tariff to be effective 7/30/2025.

Filed Date: 7/29/25.

Accession Number: 20250729-5144.

Comment Date: 5 p.m. ET 8/19/25.

Docket Numbers: ER25-3017-000.

Applicants: Hashknife Energy Center LLC.

Description: Initial Rate Filing: Hashknife Energy Center MBR App to be effective 7/31/2025.

Filed Date: 7/30/25.

Accession Number: 20250730-5001.

Comment Date: 5 p.m. ET 8/20/25.

Docket Numbers: ER25-3018-000.

Applicants: Baltimore Gas and Electric Company.

Description: 205(d) Rate Filing: BGE CWIP Incentive Application to be effective 10/1/2025.

Filed Date: 7/30/25.

Accession Number: 20250730-5012.

Comment Date: 5 p.m. ET 8/20/25.

Docket Numbers: ER25-3019-000.

Applicants: Dow Hydrocarbons and Resources LLC.

Description: 205(d) Rate Filing: Tariff Filing to Relinquish MBR Authority in Certain Regions to be effective 9/29/2025.

Filed Date: 7/30/25.

Accession Number: 20250730-5018.

Comment Date: 5 p.m. ET 8/20/25.

Docket Numbers: ER25-3020-000.

Applicants: Dow Pipeline, LLC.

Description: 205(d) Rate Filing: Tariff Filing to Relinquish MBR Authority in Certain Regions to be effective 9/29/2025.

Filed Date: 7/30/25.

Accession Number: 20250730-5019.

Comment Date: 5 p.m. ET 8/20/25.

Docket Numbers: ER25-3021-000.

Applicants: PJM Interconnection, L.L.C.

Description: 205(d) Rate Filing: Amendment to GIA, Service Agreement No. 7242; Queue No. AF1-229 to be effective 9/29/2025.

Filed Date: 7/30/25.

Accession Number: 20250730-5034.

Comment Date: 5 p.m. ET 8/20/25.

Docket Numbers: ER25-3022-000.

Applicants: Boot Hill Solar LLC.

Description: Initial Rate Filing: Baseline new to be effective 9/28/2025.

Filed Date: 7/30/25.

Accession Number: 20250730-5036.

Comment Date: 5 p.m. ET 8/20/25.

Docket Numbers: ER25-3023-000.

Applicants: PJM Interconnection, L.L.C.

Description: 205(d) Rate Filing: Amendment to CSA, Service Agreement No. 7243; Queue No. AF1-229 to be effective 9/29/2025.

Filed Date: 7/30/25.

Accession Number: 20250730-5039.

Comment Date: 5 p.m. ET 8/20/25.

Docket Numbers: ER25-3024-000.

Applicants: PJM Interconnection, L.L.C.

Description: 205(d) Rate Filing: Amendment to CSA, Service Agreement No. 7244; Queue No. AF1-229 to be effective 9/29/2025.

Filed Date: 7/30/25.

Accession Number: 20250730-5045.

Comment Date: 5 p.m. ET 8/20/25.

Docket Numbers: ER25-3025-000.

Applicants: Nevada Power Company, Sierra Pacific Power Company.

Description: Petition for Limited Waiver of Nevada Power Company.

Filed Date: 7/28/25.

Accession Number: 20250728-5179.

Comment Date: 5 p.m. ET 8/18/25.

Docket Numbers: ER25-3026-000.

Applicants: Black Hills Colorado Electric, LLC.

Description: 205(d) Rate Filing: Filing of Amended Midway Transmission Interconnection Agreement to be effective 9/29/2025.

Filed Date: 7/30/25.

Accession Number: 20250730-5084.

Comment Date: 5 p.m. ET 8/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 30, 2025.
Carlos D. Clay,
Deputy Secretary.

[FR Doc. 2025-14694 Filed 8-1-25; 8:45 am]

BILLING CODE 6717-01-P.